DEPARTMENT OF TRANSPORTATION

Federal Aviation Administration

RTCA Future Flight Data Collection Committee

AGENCY: Federal Aviation Administration (FAA), DOT.

ACTION: Notice of RTCA Future Flight Data Collection Committee meeting.

SUMMARY: The FAA is issuing this notice to advise the public of a meeting of the RTCA Future Flight Data Collection Committee.

DATES: The meeting will be held September 11, 2001 starting at 9 am.

ADDRESSES: The meeting will be held at RTCA, Inc., 1828 L Street, NW, Suite 805, Washington, DC, 20036.

FOR FURTHER INFORMATION CONTACT: RTCA Secretariat, 1828 L Street, NW., Suite 805, Washington, DC, 20036; telephone (202) 833-9339; fax (202) 833-9434; web site http://www.rtca.org.

SUPPLEMENTARY INFORMATION: Pursuant to section 10(a)(2) of the Federal Advisory Committee Act (P.L. 92-463, 5 U.S.C., Appendix 2), notice is hereby given or a Future Flight Data Collection Committee meeting. The agenda will include:

September 11

• Opening Session (Welcome, Introductions, Administrative Remarks, Agenda Review, Review/Approve Summary of Previous Meeting)

• Review and Approve Final Draft Document

• Closing Session (Other Business, Adjourn)

Attendance is open to the interested public but limited to space availability. With the approval of the chairmen, members of the public may present oral statement at the meeting. Persons wishing to present statements or obtain information should contact the person listed in FOR FURTHER INFORMATION CONTACT section. Members of the public may present a written statement to the committee at any time.

Issued in Washington, DC, on August 2, 2001.
Janice L. Peters,
FAA Special Assistant, RTCA Advisory Committee.

[FR Doc. 01-19738 Filed 8-6-01; 8:45 am]

BILLING CODE 4910-13-M